DEPARTMENT OF THE INTERIOR

Bureau of Land Management

[ID-076-1220-BA]

Notice of Closure to Off-highway Vehicle Use

AGENCY: Bureau of Land Management, Interior.

ACTION: Notice of closure to off-highway vehicle use.

SUMMARY: With the publication of this notice, all existing trails and cross-country travel on certain lands administered by the Bureau of Land Management (BLM) Shoshone Field Office are closed to off-highway vehicle (OHV) use. The closure will remain in effect until the proposed Resource Management Plan (FY2005) can implement OHV designations, or until such time as the authorized officer of the Shoshone Field Office determines the closure may be lifted. The closure is in accordance with 43 CFR 9268.3(d)(1)(i-iii) and 43 CFR 8341.1(f)(4).

FOR FURTHER INFORMATION CONTACT: John Kurtz, Outdoor Recreation Planner, (208) 732-7296, BLM Shoshone Field Office, 400 West F Street, Shoshone, ID 83352.

SUPPLEMENTARY INFORMATION: The Blaine County Muldoon Summit Road dips where it passes through Bureau of Land Management administered land, resulting in limited visibility for ¼ of a mile causing public safety issues. Within this section, All Terrain Vehicles (ATV), motorcycles and snowmobiles cross the county road to gain momentum to hill climb. These vehicles are climbing steep slopes resulting in ruts, vegetation damage, noxious weed spread and erosion. The vertical trails also cause visual scars for the surrounding residents and communities. These lands are also important winter wildlife habitat areas. This closure will protect these resources and reduce the potential for further noxious weed invasion. Private landowners adjacent to the lands have complained about the resource damage. This closure is in response to those complaints.

The area of closure includes BLM lands, specifically described wholly or partially:

Boise Meridian

T. 2 N., R. 19 E., Sec.31, N½NW¼ (80 Acres).

Detailed maps of the area closed to OHV and recreational use are available at the BLM Shoshone Field Office, 400 West F Street, Shoshone, ID 83352.

Dated: April 3, 2003.
Rick VanderVoet,
Acting Shoshone Field Manager.

[FR Doc. 03-12516 Filed 5-19-03; 8:45 am]

BILLING CODE 4310-GG-P